NATIONAL AERONAUTICS AND SPACE ADMINISTRATION

[Notice (07-009)]

Government-Owned Inventions, Available for Licensing

AGENCY: National Aeronautics and Space Administration.

ACTION: Notice of availability of inventions for licensing.

SUMMARY: The inventions listed below assigned to the National Aeronautics and Space Administration, have been filed in the United States Patent and Trademark Office, and are available for licensing.

DATES: February 21, 2007.

FOR FURTHER INFORMATION CONTACT: Robert M. Padilla, Patent Counsel, Ames Research Center, Code 202A-4, Moffett Field, CA 94035-1000; telephone (650) 604-5104; fax (650) 604-2767.

NASA Case No. ARC-15566-3: Real Time Oil Reservoir Evaluation Using Nanotechnology;

NASA Case No. ARC-15578-2: Visual Image Sensor Organ Replacement Implementation;

NASA Case No. ARC-15201-1: Toughened Uni-piece Fibrous Reinforced Oxidation-Resistant Composite (TUFROC);

NASA Case No. ARC-15890-1: Contaminated Water Treatment.

Dated: February 9, 2007.
Keith T. Sefton,
Deputy General Counsel, Administration and Management.

[FR Doc. E7-2923 Filed 2-21-07; 8:45 am]

BILLING CODE 7510-13-P